DEPARTMENT OF THE INTERIOR

Fish and Wildlife Service

Habitat Conservation Plan for the Santa Clara Valley, Santa Clara County, CA

AGENCY: Fish and Wildlife Service, Interior.

ACTION: Notice of intent to prepare an Environmental Impact Statement/Environmental Impact Report (EIS/EIR) and notice of public meeting.

SUMMARY: Pursuant to the National Environmental Policy Act (NEPA), we, the Fish and Wildlife Service (Service), advise the public that we intend to gather information necessary to prepare, in coordination with Santa Clara County, a joint Environmental Impact Statement/Environmental Impact Report (EIS/EIR) on the Habitat Conservation Plan for the Santa Clara Valley (Plan). The Plan is being prepared under Section 10(a)(1)(B) of the Federal Endangered Species Act of 1973, as amended, (Act). Santa Clara County (County) is facilitating preparation of the Plan with local partners and is the lead agency under the California Environmental Quality Act (CEQA). The County in accordance with CEQA is publishing a similar notice. The County and their local partners intend to apply for a 50-year incidental take permit from the Service and from the National Marine Fisheries Service (NMFS). These permits are needed to authorize the incidental take of threatened and endangered species that could result from activities covered under the Plan.

We provide this notice to (1) describe the proposed action and possible alternatives; (2) advise other Federal and State agencies, affected Tribes, and the public of our intent to prepare an EIS/EIR; (3) announce the initiation of a public scoping period; and (4) obtain suggestions and information on the scope of issues and alternatives to be included in the EIS/EIR.

DATES: Submit written comments on or before October 22, 2007. One public scoping meeting will be held on Wednesday, September 26, 2007, from 7 p.m. to 9 p.m. The public scoping meeting will be combined with a pre-scheduled community meeting for the Plan.

ADDRESSES: The public meeting will be held at the Morgan Hill Community and Cultural Center, 17000 Monterey Road, Morgan Hill, CA 95037. Submit written comments to Lori Rinek, Chief, Conservation Planning and Recovery Division, Fish and Wildlife Service, Sacramento Fish and Wildlife Office, 2800 Cottage Way, Room W-2605, Sacramento, CA 95825. Comments may also be sent by facsimile to (916) 414-6713.

FOR FURTHER INFORMATION CONTACT: Cori Mustin, Senior Fish and Wildlife Biologist, Sacramento Fish and Wildlife Office at (916) 414-6600.

SUPPLEMENTARY INFORMATION:

Reasonable Accommodation

Persons needing reasonable accommodations in order to attend and participate in the public meeting should contact Cori Mustin at (916) 414-6600 as soon as possible. In order to allow sufficient time to process requests, please call no later than one week before the public meeting. Information regarding this proposed action is available in alternative formats upon request.

Background

The Plan is both a habitat conservation plan (HCP), intended to fulfill the requirements of the Endangered Species Act, and a natural community conservation plan (NCCP), to fulfill the requirements of the California Natural Community Conservation Planning Act (NCCP Act). The Plan is being prepared under the combined efforts of eight local and state agencies: Santa Clara County, the City of San José, the City of Morgan Hill, the City of Gilroy, the Santa Clara Valley Water District (SCVWD), the Santa Clara Valley Transportation Authority (VTA), the Santa Clara County Open Space Authority, and the California Department of Parks and Recreation, collectively referred to as the Local Partners. Furthermore, efforts have included coordination with the California Department of Fish and Game (CDFG) as a CEQA Responsible and Trustee Agency and the National Oceanic and Atmospheric Administration, NMFS is a Cooperating Agency under NEPA.

Species proposed for coverage in the Plan are species that are currently listed as federally threatened or endangered or have the potential to become listed during the life of this Plan and have some likelihood to occur within the project area. Should any of these unlisted covered wildlife species become listed under the Act during the term of the permit, take authorization for those species would become effective upon listing. The Plan will provide long-term conservation and management of these species. Species may be added or deleted during the course of the development of the Plan based on further analysis, new information, agency consultation, and public comment. The Plan addresses 30 listed and non-listed species: 15 wildlife species and 15 plant species. Federally listed species proposed for coverage under the Plan include: the bay checkerspot butterfly (Euphydryas editha bayensis), south-central California coastal steelhead (Oncorhynchus mykiss), central California coastal steelhead (O. mykiss), central valley fall-run Chinook salmon (O. tshawytscha), California tiger salamander (Ambystoma californiense), California red-legged frog (Rana aurora draytonii), least Bell's vireo (Vireo bellii pusillus), San Joaquin kit fox (Vulpes macrotis mutica), Tiburon Indian paintbrush (Castilleja affinis ssp. neglecta), coyote ceanothus (Ceanothus ferrisae), Santa Clara Valley dudleya (Dudleya setchellii), and Metcalf Canyon jewelflower (Streptanthus albidus ssp. albidus). The unlisted species proposed for coverage under the Plan include: Pacific lamprey (Lampetra tridentata), foothill yellow-legged frog (Rana boylii), western pond turtle (Clemmys marmorata), golden eagle (Aquila chrysaetos), western burrowing owl (Athene cunicularia hypugaea), tricolored blackbird (Agelaius tricolor), Pacific Townsend's [=western] big-eared bat (Corynorhinus townsendii townsendii), big scale balsamroot (Balsamorhiza macrolepis), chaparral harebell (Campanula exigua), Mount Hamilton thistle (Cirsium fontinale var. campylon), San Francisco collinsia (Collinsia multicolor), fragrant fritillary (Fritillaria liliacea), Loma Prieta hoita (Hoita strobilina), smooth lessingia (Lessingia micradenia var. glabrata), Hall's bush mallow (Malacothamnus hallii), robust monardella (Monardella villosa ssp. globosa), rock sanicle (Sanicula saxatilis), and most beautiful jewelflower (Streptanthus albidus ssp. peramoenus).

Section 9 of the Act and Federal regulations prohibit the “take” of wildlife species listed as endangered or threatened (16 U.S.C. 1538). The Act defines the term “take” as: to harass, harm, pursue, hunt, shoot, wound, kill, trap, capture, or collect listed species, or to attempt to engage in such conduct (16 U.S.C. 1532). Harm includes significant habitat modification or degradation that actually kills or injures listed wildlife by significantly impairing essential behavioral patterns, including breeding, feeding, and sheltering [50 CFR 17.3(c)]. Pursuant to Section 10(a)(1)(B) of the Act, we may issue permits to authorize “incidental take” of listed species. “Incidental take” is defined by the Act as take that is incidental to, and not the purpose of, carrying out an otherwise lawful activity. Service regulations governing permits for threatened species and endangered species, respectively, are promulgated in 50 CFR 17.32 and 50 CFR 17.22. NMFS regulations governing permits for threatened and endangered species of salmonids that may be covered in the Plan are promulgated in 50 CFR 222.22.

Take of listed plant species is not prohibited under the Act, and cannot be authorized under a Section 10 permit. We propose to include plant species on the permit in recognition of the conservation benefits provided for them under an HCP. For the purposes of the Plan, certain plant species are further included to meet regulatory obligations under Section 7 of the Act and the California Endangered Species Act (CESA). All species included on an incidental take permit would receive assurances under the Service's “No Surprises” regulations found in 50 CFR 17.22(b)(5) and 17.32(b)(5).

The Plan would result in take authorization for otherwise lawful actions, such as public and private development that may incidentally take or harm animal species or their habitats within the Plan area, and the formation and management of a conservation program for covered species. The Local Partners will request incidental take coverage for the following seven categories of covered activities: (1) Urban development, (2) in-stream capital projects, (3) in-stream operation and maintenance activities, (4) rural capital projects, (5) rural operations and maintenance activities, (6) rural development, and (7) conservation strategy implementation.

The study area includes approximately 518,819 acres, or approximately 62 percent of Santa Clara County. The study area was defined as the area in which covered activities would occur, impacts would be evaluated, and conservation activities would be implemented. The boundary of the study area was based on political, ecological, and hydrologic factors. The study area includes the Pajaro River watershed within Santa Clara County including all or a portion of the Llagas, Uvas, Pescadero and Pacheco sub-watersheds and the Coyote Creek watershed with the exception of the Baylands region. A large portion of the Guadalupe watershed is within the study area, as well as small areas outside of each of these watersheds.

Environmental Impact Statement/Report

The EIS/EIR will consider the proposed action (i.e., the issuance of a Section 10(a)(1)(B) permit under the Act), no action (no project/no Section 10 permit), and a reasonable range of alternatives. A detailed description of the proposed action and alternatives will be included in the EIS/EIR. The alternatives to be considered for analysis in the EIS/EIR may include: Modified lists of covered species, land coverage areas, and extent of future conservation efforts. The EIS/EIR will also identify potentially significant impacts on biological resources, land use, air quality, water quality, economics, and other environmental resource issues that could occur directly or indirectly with implementation of the proposed action and alternatives. Different strategies for avoiding, minimizing and mitigating the impacts of incidental take may also be considered.

Environmental review of the EIS/EIR will be conducted in accordance with the requirements of NEPA (42 U.S.C. 4321 et. seq.), its implementing regulations (40 CFR parts 1500-1508), other applicable regulations, and Service procedures for compliance with those regulations. This notice is being furnished in accordance with 40 CFR Section 1501.7 and 1508.22 to obtain suggestions and information from other agencies and the public on the scope of issues and alternatives to be addressed in the EIS/EIR. The primary purpose of the scoping process is to identify important issues raised by the public related to the proposed action. Written comments from interested parties are invited to ensure that the full range of issues related to the permit application is identified. Comments will only be accepted in written form. You may submit written comments by mail, facsimile transmission, or in person (see ADDRESSES). All comments received, including names and addresses, will become part of the official administrative record and may be made available to the public.

Our practice is to make comments, including names, home addresses, home phone numbers, and email addresses of respondents available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

Dated: August 30, 2007.
Ken McDermond,
Deputy Manager, California/Nevada Operations Office, Sacramento, California.

[FR Doc. E7-17588 Filed 9-5-07; 8:45 am]

BILLING CODE 4310-55-P